DEPARTMENT OF THE INTERIOR

National Park Service

Notice of Intent to Repatriate Cultural Items: Horner Collection, Oregon State University, Corvallis, OR

AGENCY: National Park Service, Interior.

ACTION: Notice.

Notice is here given in accordance with the Native American Graves Protection and Repatriation Act (NAGPRA), 25 U.S.C. 3005, of the intent to repatriate cultural items in the possession of the Horner Collection, Oregon State University, Corvallis, OR, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The five cultural items are one drum, one drumstick, one Coho or shinny stick, one trinket basket, and one wallet basket. Three of the cultural items are part of the Dr. J.L. Hill collection.

Horner Collection, Oregon State University professional staff consulted with representatives of the Confederated Tribes of the Grand Ronde Community of Oregon; Confederated Tribes of the Siletz Reservation, Oregon; Karuk Tribe of California; Quinault Tribe of the Quinault Reservation, Washington; and Shoalwater Bay Tribe of the Shoalwater Bay Indian Reservation, Washington.

The Museum of Oregon Country, Oregon Agricultural College acquired the collection from Dr. Hill's son and daughter in 1925. The Museum of Oregon Country was renamed the John B. Horner Museum of the Oregon Country in 1936, and became commonly known as the Horner Museum. The Oregon Agricultural College was renamed the Oregon State College in 1937, and became Oregon State University in 1962. In 1981, Dr. Hill's heirs, Emily Hill Ward and her son, Fred Ward signed a gift agreement transferring ownership of Dr. Hill's entire collection to the museum. The Horner Museum closed in 1995. Currently, cultural items from the Horner Museum are referred to as the Horner Collection, which is owned by, and in the possession of, Oregon State University.

At an unknown date, one drum and drumstick were removed from the Siletz Reservation, OR, by Mr. C.S. Davis. In 1921, Dr. J.L. Hill's heirs loaned the drum and drumstick to the Museum of Oregon Country. It is believed that Mr. Davis had given the cultural items to Dr. Hill specifically to donate to the Museum of Oregon Country. In the 1981 gift agreement, Dr. Hill's heirs transferred ownership of Dr. Hill's entire collection, including the drum and drumstick, to the Horner Collection, Oregon State University.

The museum records for the drum and drumstick state that they were originally made by Moses Lane of the Siletz Reservation, OR. A cultural representative of the Confederated Tribes of the Siletz Reservation, Oregon has said that the drum and drumstick would have been used to enhance the spiritual development of the owner. Traditionally, the drum and drumstick would have been uniquely and solely connected to the owner and would have been buried with the owner. Furthermore, according to museum records, a note attached to the drum reads, “You will notice that the framework is hand made and cut out with crude tools. The cover is tanned horsehide. These drums are used at tribal ceremonies, dances, games etc. and are generally buried with the remains of the owner.”

The Horner Collection, Oregon State University has no evidence the drum and drumstick were ever buried with Moses Lane or any other individual. However, museum records state that Dr. Hill was known to have collected human remains and cultural items from burials and mounds. Based on consultation and museum records, the Horner Collection, Oregon State University finds that the intent was to maintain the spiritual connection between owner and object through the burial of the cultural items with their owner and has therefore identified the cultural items as unassociated funerary objects.

At an unknown date, one shinny or Coho stick was removed from an unknown location by Dr. Hill. In 1921, Dr. Hill's heirs loaned the cultural item to the museum. In the 1981 gift agreement, Dr. Hill's heirs, transferred ownership of Dr. Hill's entire collection, including the shinny or Coho stick, to the Horner Collection, Oregon State University.

According to museum records the shinny or Coho stick was created by Andrew Smith of the Siletz Reservation, OR. A cultural representative of the Confederated Tribes of the Siletz Reservation, Oregon has said that the shinny or Coho stick would have been used to enhance the spiritual development of the owner. Therefore, a shinny or Coho stick would have been uniquely and solely connected to the owner, and traditionally such items were buried with the owner. The Horner Collection, Oregon State University has no evidence that the shinny or Coho stick was ever buried with Andrew Smith or any other individual. However, museum records state that Dr. Hill was known to have collected human remains and cultural items from burials and mounds. Based on consultation and museum records, the Horner Collection, Oregon State University finds that the intent was to maintain the spiritual connection between owner and object through the burial of this cultural item with its owner and has therefore identified the cultural item as an unassociated funerary object.

At an unknown date, one trinket basket and one wallet basket were removed from an unknown location by Mr. W.C. Dyer. In 1934, Mrs. S.C. Dyer, the wife of Mr. Dyer, donated the trinket basket and wallet basket to the museum. The Horner Collection, Oregon State University has no evidence the trinket and wallet baskts were ever buried with any individual. However, museum records state that Mr. Dyer was known to have collected human remains and cultural items from burials and mounds. Based on consultation and museum records, the Horner Collection, Oregon State University has identified the cultural items as unassociated funerary objects.

According to museum records, both the trinket and wallet baskets are Clatsop in origin. Any direct Clatsop descendant who meets the Confederated Tribes of the Siletz Reservation, Oregon enrollment criteria is eligible for membership in the Confederated Tribes of the Siletz Reservation, Oregon. The Clatsop are ancestors of the present-day Chinook Tribe. The Chinook Tribe has cultural and political ties to the Confederated Tribes of the Siletz Reservation, Oregon. The Chinook Tribe is a confederated member of the Confederated Tribes of the Siletz Reservation, Oregon.

Officials of the Horner Collection, Oregon State University have determined that, pursuant to 25 U.S.C. 3001 (3)(B), the five cultural items described above are reasonably believed to have been placed with or near individual human remains at the time of death or later as part of the death rite or ceremony and are believed, by a preponderance of the evidence, to have been removed from specific burial sites of Native American individuals. Officials of the Horner Collection, Oregon State University also have determined that, pursuant to 25 U.S.C. 3001 (2), there is a relationship of shared group identity that can be reasonably traced between the five unassociated funerary objects and the Confederated Tribes of the Siletz Reservation, Oregon.

Representatives of any other Indian tribe that believes itself to be culturally affiliated with the unassociated funerary objects should contact Sabah Randhawa, Executive Vice President and Provost, President's Office, Oregon State University, 600 Kerr Administration Building, Corvallis, OR 97331, telephone (541) 737-8260, before November 25, 2005. Repatriation of the unassociated funerary objects to the Confederated Tribes of the Siletz Reservation, Oregon may proceed after that date if no additional claimants come forward.

Horner Collection, Oregon State University is responsible for notifying the Confederated Tribes of the Grand Ronde Community of Oregon; Confederated Tribes of the Siletz Reservation, Oregon; Karuk Tribe of California; Quinault Tribe of the Quinault Reservation, Washington; and Shoalwater Bay Tribe of the Shoalwater Bay Indian Reservation, Washington that this notice has been published.

Dated:September 28, 2005

Sherry Hutt,

Manager, National NAGPRA Program.

[FR Doc. 05-21329 Filed 10-25-05; 8:45 am]

BILLING CODE 4312-50-S